DEPARTMENT OF TRANSPORTATION

Federal Aviation Administration

14 CFR Part 39

[Docket No. FAA-2006-23706; Directorate Identifier 2006-NE-03-AD; Amendment 39-18177; AD 2015-12-04]

RIN 2120-AA64

Airworthiness Directives; Honeywell International Inc. Turboprop Engines

AGENCY: Federal Aviation Administration (FAA), DOT.

ACTION: Final rule; correction.

SUMMARY: The FAA is correcting an airworthiness directive (AD) that published in the Federal Register. That AD applies to all Honeywell International Inc. TPE331-1, -2, -2UA, -3U, -3UW, -5, -5A, -5AB, -5B, -6, -6A, -10, -10AV, -10GP, -10GT, -10P, -10R, -10T, -10U, -10UA, -10UF, -10UG, -10UGR, -10UR, -11U, -12JR, -12UA, -12UAR, and -12UHR turboprop engines with certain Honeywell part numbers (P/Ns) of Woodward fuel control unit (FCU) assemblies, installed. The AD number in the document headings is incorrect. Additionally, the Amendment number in the regulatory text is incorrect. This document corrects these two errors. In all other respects, the original document remains the same.

DATES: This final rule is effective on July 22, 2015. The effective date of AD 2015-12-04, Amendment 39-18177 (80 FR 34534, June 17, 2015) remains July 22, 2015.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Joseph Costa, Aerospace Engineer, Los Angeles Aircraft Certification Office, FAA, Transport Airplane Directorate, 3960 Paramount Blvd., Lakewood, CA 90712-4137; phone: 562-627-5246; fax: 562-627-5210; email: joseph.costa@faa.gov.

SUPPLEMENTARY INFORMATION: AD 2015-12-04, Amendment 39-18177, 80 FR 34534, June 17, 2015), requires initial and repetitive dimensional inspections of the affected fuel control drives and insertion of certain airplane operating procedures into the applicable flight manuals.

As published, the AD number in the document headings is incorrect. Additionally, the Amendment number in the regulatory text of AD 2015-12-04 is incorrect.

No other part of the final rule has been changed.

The effective date of AD 2015-12-04 remains July 22, 2015.

Correction of Non-Regulatory Text

In the Federal Register of June 17, 2015, AD 2015-12-04; Amendment 39-18177 (80 FR 34534) is corrected as follows:

On page 34534, in the 2nd column, on line 6, change “2014-12-04” to “2015-12-04”.

Correction of Regulatory Text

§ 39.13 [Corrected]

2. The FAA amends § 39.13 by removing airworthiness directive (AD) 2006-15-08, Amendment 39-14688 (71 FR 41121, July 20, 2006), and adding the following new AD:

2015-12-04 Honeywell International Inc.: Amendment 39-18177; Docket No. FAA-2006-23706; Directorate Identifier 2006-NE-03-AD.

(a) Effective Date

This AD is effective August 20, 2015.

(b) Affected ADs

This AD replaces AD 2006-15-08, Amendment 39-14688 (71 FR 41121, July 20, 2006).

(c) Applicability

This AD applies to all Honeywell International Inc. TPE331-1, -2, -2UA, -3U, -3UW, -5, -5A, -5AB, -5B, -6, -6A, -10, -10AV, -10GP, -10GT, -10P, -10R, -10T, -10U, -10UA, -10UF, -10UG, -10UGR, -10UR, -11U, -12JR, -12UA, -12UAR, and -12UHR turboprop engines with Honeywell part numbers (P/Ns) for Woodward fuel control unit (FCU) assemblies listed in Table 1 to paragraph (c) of this AD, installed.

Table 1 to Paragraph (c)—Affected FCU Assembly P/Ns
Group No. | Engine | FCU Assembly P/Ns
1 | TPE331-1, -2, and -2UA | P/N 869199-13, -20, -21, -22, -23, -24, -25, -26, -27, -28, -29, -31, -32, -33, -34, and -35.
2 * | TPE331-1, -2, and -2UA | P/N 869199-9, -10, -11, -12, -14, -16, -17, and -18.
3 | TPE331-3U, -3UW, -5, -5A, -5AB, -5B, -6, -6A, -10AV, -10GP, -10GT, -10P, and -10T | P/N 893561-7, -8, -9, -10, -11, -14, -15, -16, -20, -26, -27, and -29; or P/N 897770-1, -3, -7, -9, -10, -11, -12, -14, -15, -16, -25, -26, and -28.
4 * | TPE331-3U, -3UW, -5, -5B, -6, -6A, and -10T | P/N 893561-4, -5, -12, and -13 or P/N 897770-5, -8, and -13.
5 | TPE331-10, -10R, -10U, -10UA, -10UF, -10UG, -10UGR, -10UR, -11U, -12JR, -12UA, -12UAR, and -12UHR | P/N 897375-2, -3, -4, -5, -8, -9, -10, -11, -12, -13, -14, -15, -16, -17, -19, -21, -24, -25, -26, and -27; or P/N 897780-1, -2, -3, -4, -5, -6, -7, -8, -9, -10, -11, -14, -15, -16, -17, -18, -19, -20, -21, -22, -23, -24, -25, -26, -27, -30, -32, -34, -36, -37, and -38; or P/N 893561-17, -18, and -19.
* New/added FCU assembly P/Ns

(d) Unsafe Condition

We are issuing this AD to prevent failure of the fuel control drive that could result in damage to the engine and airplane.

(e) Compliance

Comply with this AD within the compliance times specified, unless already done.

(1) Inspection of Engines With FCU Assembly P/Ns in Groups 2 and 4

For FCU assembly P/Ns in Groups 2 and 4 listed in Table 1 to paragraph (c) of this AD:

(i) At the next scheduled inspection of the fuel control drive, or within 500 hours-in-service (HIS) after the effective date of this AD, whichever occurs first, inspect the fuel control drive for wear.

(ii) Thereafter, re-inspect the fuel control drive within every 1,000 HIS since-last-inspection (SLI).

(2) Inspection of Engines With FCU Assembly P/Ns in Groups 1, 3, and 5

For FCU assembly P/Ns in Groups 1, 3, or 5 listed in Table 1 to paragraph (c) of this AD:

(i) If on the effective date of this AD the FCU assembly has 950 or more HIS SLI, inspect the fuel control drive for wear within 50 HIS from the effective date of this AD.

(ii) If on the effective date of this AD the FCU assembly has fewer than 950 HIS SLI, inspect the fuel control drive for wear before reaching 1,000 HIS.

(iii) Thereafter, re-inspect the fuel control drive for wear within every 1,000 HIS SLI.

(3) Airplane Operating Procedures

Within 60 days after the effective date of this AD, insert the information in Figure 1 to paragraph (e) of this AD, into the Emergency Procedures Section of the Airplane Flight Manual (AFM), Pilot Operating Handbook (POH), and the Manufacturer's Operating Manual (MOM).

(f) Optional Terminating Action

Replacing the affected FCU assembly with an FAA-approved FCU assembly P/N not listed in this AD is terminating action for the initial and repetitive inspections required by this AD, and for inserting the information in Figure 1 to paragraph (e) of this AD into the AFM, POH, and MOM.

(g) Definitions

For the purposes of this AD:

(1) The “fuel control drive” is a series of mating splines located between the fuel pump and fuel control governor.

(2) The fuel control drive consists of four drive splines: the fuel pump internal spline, the fuel control external “quill shaft” spline, and the stub shaft internal and external splines.

(h) Alternative Methods of Compliance (AMOCs)

The Manager, Los Angeles Aircraft Certification Office, FAA, may approve AMOCs for this AD. Use the procedures found in 14 CFR 39.19 to make your request.

(i) Related Information

(1) For more information about this AD, contact Joseph Costa, Aerospace Engineer, Los Angeles Aircraft Certification Office, FAA, Transport Airplane Directorate, 3960 Paramount Blvd., Lakewood, CA 90712-4137; phone: 562-627-5246; fax: 562-627-5210; email: joseph.costa@faa.gov.

(2) Information pertaining to operating recommendations for affected engines after a fuel control drive failure is contained in Honeywell International Inc., Operating Information Letter (OIL) OI331-12R6, dated May 26, 2009, for multi-engine airplanes; and in OIL OI331-18R4, dated May 26, 2009, for single-engine airplanes. Information on fuel control drive inspection can be found in Section 72-00-00 of the applicable TPE331 maintenance manuals. These Honeywell International Inc., OILs and the TPE331 maintenance manuals, which are not incorporated by reference in this AD, can be obtained from Honeywell International Inc., using the contact information in paragraph (i)(3) of this AD.

(3) For service information identified in this AD, contact Honeywell International Inc., 111 S. 34th Street, Phoenix, AZ 85034-2802; Internet: https://myaerospace.honeywell.com/wps/portal/!ut; phone: 800-601-3099.

(4) You may view this service information at the FAA, Engine & Propeller Directorate, 12 New England Executive Park, Burlington, MA. For information on the availability of this material at the FAA, call 781-238-7125.

(j) Material Incorporated by Reference

None.

Issued in Burlington, Massachusetts, on June 26, 2015.
Ann C. Mollica,
Acting Directorate Manager, Engine and Propeller Directorate, Aircraft Certification Service.

[FR Doc. 2015-16587 Filed 7-15-15; 8:45 am]

BILLING CODE 4910-13-P